DEPARTMENT OF LABOR

Employment and Training Administration

Agency Information Collection Activities; Comment Request; Youthful Offender Grants Management Information System

ACTION: Notice.

SUMMARY: The Department of Labor's (DOL's) Employment and Training Administration (ETA) is soliciting comments concerning a proposed extension for the authority to conduct the information collection request (ICR) titled, “Youthful Offender Grants Management Information System.” This comment request is part of continuing Departmental efforts to reduce paperwork and respondent burden in accordance with the Paperwork Reduction Act of 1995 (PRA).

DATES: Consideration will be given to all written comments received by November 4, 2019.

ADDRESSES: A copy of this ICR with applicable supporting documentation, including a description of the likely respondents, proposed frequency of response, and estimated total burden may be obtained free by contacting Alex Green by telephone at 202-693-2759 (this is not a toll-free number), TTY 1-877-889-5627 (this is not a toll-free number), or by email at green.alexander.m@dol.gov.

Submit written comments about, or requests for a copy of, this ICR by mail or courier to the U.S. Department of Labor, Employment and Training Administration, Reentry Employment Opportunities, Alex Green, Room N-4508, 200 Constitution Avenue NW, Washington, DC 20210; by email: green.alexander.m@dol.gov; or by Fax 202-693-3313.

FOR FURTHER INFORMATION CONTACT: Alex Green by telephone at 202-693-2759 (this is not a toll-free number) or by email at green.alexander.m@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is currently implementing a multi-program web-based performance reporting system for some of its grant programs. However, the seven Reentry Demonstration Project (RDP) grants awarded in June 2016 and the thirteen Pathways to Justice Careers (PJC) grants awarded in June 2016 and January 2017 are still using the legacy youth offender Management Information System (MIS) under OMB Control Number 1205-0513. Based on current funding levels of these grants, one RDP grant and four PJC grants may still be active after the current ICR for this MIS expires on January 31, 2020.

This request is to extend the approval of this MIS for one year so that it may continue to operate until the remaining RDP and PJC grants end. This request includes the collection of data by grantees on participant characteristics, services provided, and participant outcomes; the quarterly performance report submitted by grantees; the quarterly narrative report; and the annual recidivism report. This request continues a reporting and recordkeeping system for a minimum level of information collection that is necessary to comply with Equal Opportunity requirements, to hold Youthful Offender grantees appropriately accountable for the Federal funds they receive, and to allow the Department to fulfill its oversight and management responsibilities. Section 185 of the Workforce Innovation and Opportunity Act authorizes the collection of data from grantees on the demographic characteristics of participants, activities provided, and program outcomes.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0513.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Youthful Offender Grants Management Information System.

Forms: Quarterly Performance Report, Quarterly Narrative Report, Recidivism Report.

OMB Control Number: 1205-0513.

Affected Public: Private Sector: Not-for-Profit Institutions; State and Local Juvenile and Adult Justice Agencies; Program Participants.

Estimated Number of Respondents: 1,020 (Unduplicated Count).

Frequency: Quarterly for the performance and narrative reports, annually for the recidivism report.

Total Estimated Annual Responses: 3,040.

Estimated Average Time per Response: Varies.

Estimated Total Annual Burden Hours: 3,970.

Total Estimated Annual Other Cost Burden: $0.

John Pallasch,
Assistant Secretary, Employment and Training Administration.

[FR Doc. 2019-19140 Filed 9-4-19; 8:45 am]

BILLING CODE 4510-FT-P